DEPARTMENT OF ENERGY

[Case Number 2018-001; EERE-2018-BT-WAV-0001]

Energy Conservation Program: Decision and Order Granting a Waiver to HH Technologies From the Department of Energy Walk-in Cooler and Walk-in Freezer Doors Test Procedure

AGENCY: Office of Energy Efficiency and Renewable Energy, Department of Energy.

ACTION: Notice of decision and order.

SUMMARY: The U.S. Department of Energy (“DOE”) gives notice of a Decision and Order (Case Number 2018-001) that grants to HH Technologies a waiver from specified portions of the DOE test procedure for determining the energy consumption of specified walk-in cooler and walk-in freezer door (“walk-in door”) basic models. Under the Decision and Order, HH Technologies is required to test and rate the specified basic models of its walk-in doors in accordance with the alternate test procedure specified in the Decision and Order.

DATES: The Decision and Order is effective on October 23, 2018. The Decision and Order will terminate upon the compliance date of any future amendment to the test procedure for walk-in doors located at 10 CFR part 431, subpart R, appendix A that addresses the issues presented in this waiver. At such time, HH Technologies must use the relevant test procedure for this equipment for any testing to demonstrate compliance with the applicable standards, and any other representations of energy use.

FOR FURTHER INFORMATION CONTACT: Ms. Lucy deButts, U.S. Department of Energy, Office of Energy Efficiency and Renewable Energy, Building Technologies Office, EE-5B, 1000 Independence Avenue SW., Washington, DC, 20585-0121. Email: AS_Waiver_Requests@ee.doe.gov.

Mr. Michael Kido, U.S. Department of Energy, Office of the General Counsel, Mail Stop GC-33, Forrestal Building, 1000 Independence Avenue SW., Washington, DC 20585-0103. Telephone: (202) 586-8145. Email: Michael.Kido@hq.doe.gov.

SUPPLEMENTARY INFORMATION: In accordance with Title 10 of the Code of Federal Regulations (10 CFR 431.401(f)(2)), DOE gives notice of the issuance of its Decision and Order as set forth below. The Decision and Order grants HH Technologies with a waiver from the applicable test procedure in 10 CFR part 431, subpart R, appendix A for specified basic models of walk-in doors, provided that HH Technologies tests and rates such equipment using the alternate test procedure specified in the Decision and Order. HH Technologies' representations concerning the energy consumption of the specified basic models must be based on testing according to the provisions and restrictions in the alternate test procedure set forth in the Decision and Order, and the representations must fairly disclose the test results. Distributors, retailers, and private labelers are held to the same requirements when making representations regarding the energy consumption of this equipment. (42 U.S.C. 6314(d))

Consistent with 10 CFR 431.401(j), not later than December 24, 2018, any manufacturer currently distributing in commerce in the United States equipment employing a technology or characteristic that results in the same need for a waiver from the applicable test procedure must submit a petition for waiver. Manufacturers not currently distributing such equipment in commerce in the United States must petition for and be granted a waiver prior to the distribution in commerce of that equipment in the United States. Manufacturers may also submit a request for interim waiver pursuant to the requirements of 10 CFR 431.401.

Signed in Washington, DC, on October 15, 2018.
Kathleen B. Hogan,
Deputy Assistant Secretary for Energy Efficiency, Energy Efficiency and Renewable Energy.

Case # 2018-001

Decision and Order

I. Background and Authority

The Energy Policy and Conservation Act of 1975 (“EPCA”),¹ Public Law 94-163 (42 U.S.C. 6291-6317, as codified), among other things, authorizes the U.S. Department of Energy (“DOE”) to regulate the energy efficiency of a number of consumer products and industrial equipment. Title III, Part C ² of EPCA established the Energy Conservation Program for Certain Industrial Equipment, which sets forth a variety of provisions designed to improve energy efficiency for certain types of industrial equipment. This equipment includes walk-in cooler and walk-in freezer doors (“walk-in doors”), the focus of this document. (42 U.S.C. 6311(1)(G))

¹ All references to EPCA in this document refer to the statute as amended through the EPS Improvement Act of 2017, Public Law 115-115 (January 12, 2018).

² For editorial reasons, upon codification in the U.S. Code, Part C was redesignated as Part A-1.

Under EPCA, DOE's energy conservation program consists essentially of four parts: (1) Testing, (2) labeling, (3) Federal energy conservation standards, and (4) certification and enforcement procedures. Relevant provisions of EPCA include definitions (42 U.S.C. 6311), energy conservation standards (42 U.S.C. 6313), test procedures (42 U.S.C. 6314), labeling provisions (42 U.S.C. 6315), and the authority to require information and reports from manufacturers (42 U.S.C. 6316).

The Federal testing requirements consist of test procedures that manufacturers of covered equipment must use as the basis for: (1) Certifying to DOE that their equipment complies with the applicable energy conservation standards adopted pursuant to EPCA (42 U.S.C. 6316(a); 42 U.S.C. 6295(s)), and (2) making representations about the efficiency of that equipment (42 U.S.C. 6314(d)). Similarly, DOE must use these test procedures to determine whether the equipment complies with relevant standards promulgated under EPCA. (42 U.S.C. 6316(a); 42 U.S.C. 6295(s))

Under 42 U.S.C. 6314, EPCA sets forth the criteria and procedures DOE is required to follow when prescribing or amending test procedures for covered equipment. EPCA requires that any test procedures prescribed or amended under this section must be reasonably designed to produce test results which reflect energy efficiency, energy use or estimated annual operating cost of covered equipment during a representative average use cycle and requires that test procedures not be unduly burdensome to conduct. (42 U.S.C. 6314(a)(2)) The test procedure for walk-in doors is contained in the Code of Federal Regulations (“CFR”) at 10 CFR part 431, subpart R, appendix A, Uniform Test Method for the Measurement of Energy Consumption of the Components of Envelopes of Walk-In Coolers and Walk-In Freezers (“Appendix A”).

Under 10 CFR 431.401, any interested person may submit a petition for waiver from DOE's test procedure requirements. DOE will grant a waiver from the test procedure requirements if DOE determines either that the basic model for which the waiver was requested contains a design characteristic that prevents testing of the basic model according to the prescribed test procedures, or that the prescribed test procedures evaluate the basic model in a manner so unrepresentative of its true energy consumption characteristics as to provide materially inaccurate comparative data. 10 CFR 431.401(a)(1). DOE may grant the waiver subject to conditions, including adherence to alternate test procedures. 10 CFR 431.401(f)(2).

II. HH Technologies' Petition for Waiver: Assertions and Determinations

By letter dated December 21, 2017, HH Technologies submitted a petition for waiver and a petition for interim waiver from the test procedure applicable to walk-in doors set forth in 10 CFR part 431, subpart R, appendix A. Appendix A accounts for the power consumption of all electrical components associated with each door and discounts the power consumption of electrical components based on their operating time by an assigned percent time off (“PTO”) value. 10 CFR part 431, subpart R, appendix A, section 4.5.2. Section 4.5.2 of appendix A specifies a PTO of 25% for “other electricity-consuming devices” (i.e., electrical devices other than lighting or anti-sweat heaters) that have demand-based controls, and a PTO of 0% for other electricity-consuming devices without a demand-based control. Id. In its petition for waiver, HH Technologies suggested applying a PTO value of 96% to the door motors and controls in the basic models specified in its petition. The walk-in door basic models specified by HH Technologies are automated and designed with microprocessor controls that use motion sensor inputs to trigger a door motor, which are considered by the DOE test procedure to be “other electricity-consuming devices with demand-based control.” ³ HH Technologies asserted that the current PTO value overestimates the time that the motors and controls in the specified automated doors are in operation in high traffic applications. HH Technologies further stated that as a result, the power consumption of the specified automated door motors and controls is overestimated.

³ The specific walk-in door basic models that are subject of the petition for waiver and application for interim waiver are included in HH Technologies' petition, which is available in the docket at http://www.regulations.gov/docket?D=EERE-2018-BT-WAV-0001.

On June 18, 2018, DOE published a notice that announced its receipt of the petition for waiver and granted HH Technologies an interim waiver. 83 FR 28211 (“Notice of Petition for Waiver”). In the Notice of Petition for Waiver, DOE presented HH Technologies' claim that results from testing the specified basic models according to Appendix A provide an inaccurate representation of the power consumption of the specified automated door controls in high traffic applications. DOE also summarized HH Technologies' requested alternate test procedure, which would require testing the specified basic models according to Appendix A, except that the PTO value for the door motors and controls is modified from 25% to 96% for freight and passage doors.

As explained in the Notice of Petition for Waiver, DOE evaluated the PTO value requested by HH Technologies using the largest door operating at the slowest speed for which HH Technologies requested a waiver. 83 FR 28211, 28213. In its evaluation, DOE applied a standardized number of door openings, 120 cycles per day, which DOE had proposed as a representative number of door openings per day for all walk-in freight doors as a part of a supplemental test procedure proposal related to infiltration in walk-in doors. Id. Based on its evaluation, DOE found the PTO value that HH Technologies requested to use for the specified basic models listed in its petition was appropriate and granted HH Technologies an interim waiver for the specified basic models.

In the Notice of Petition for Waiver, DOE also solicited comments from interested parties on all aspects of the petition and the alternate test procedure. In response, DOE received one comment from Hussmann Corporation (“Hussmann”).⁴ Hussmann supported HH Technologies' concept for an alternate test procedure to account for an electrical door opening device used with a demand-based controller. It asserted that the general concept for obtaining an alternate PTO should consider items such as the number of door openings, number of employees working at a facility, and the number of shifts per 24-hour day, and that such consideration should not be limited to a specific application presented in a petition for waiver. Hussmann suggested that DOE consider criteria that would be consistent for all manufacturers of that type of product.

⁴ The Hussmann Corporation comment is available in the docket at: http://www.regulations.gov/docket?D=EERE-2018-BT-WAV-0001.

DOE notes that a Decision and Order applies only to those basic models specified in the Order. The PTO values specified by the waiver methodology are appropriate for the basic models that are the subject of the petition. HH Technologies requested PTO values based on the characteristics of the walk-in door basic models specified in its petition. HH Technologies' petition for waiver did not require DOE to consider or evaluate PTO values for other applications. Accordingly, DOE is treating Hussmann's comment on considering criteria applicable to all relevant manufacturers to apply more generally than to the specific waiver request at issue. DOE will consider this issue in greater detail if it should decide to amend the walk-in door test procedure in the future.

For the reasons explained here and the Notice of Petition for Waiver, DOE understands that absent a waiver, the basic models identified by HH Technologies in its petition cannot be tested and rated for energy consumption on a basis representative of their true energy consumption characteristics. DOE has reviewed the recommended procedure suggested by HH Technologies and concludes that it will allow for the accurate measurement of the energy use of the equipment, while alleviating the testing problems associated with HH Technologies' implementation of DOE's applicable walk-in door test procedure for the specified basic models. Thus, DOE is requiring that HH Technologies test and rate the specified walk-in door basic models according to the alternate test procedure specified in this Decision and Order, which is identical to the procedure provided in the interim waiver.

This Decision and Order applies only to the basic models listed and does not extend to any other basic models. DOE evaluates and grants waivers for only those basic models specifically set out in the petition, not future models that may be manufactured by the petitioner.

HH Technologies may request that the scope of this waiver be extended to include additional basic models that employ the same technology as those listed in this waiver. 10 CFR 431.401(g). HH Technologies may also submit another petition for waiver from the test procedure for additional basic models that employ a different technology and meet the criteria for test procedure waivers. 10 CFR 431.401(a)(1).

DOE notes that it may modify or rescind the waiver at any time upon DOE's determination that the factual basis underlying the petition for waiver is incorrect, or upon a determination that the results from the alternate test procedure are unrepresentative of the basic models' true energy consumption characteristics. 10 CFR 431.401(k)(1). Likewise, HH Technologies may request that DOE rescind or modify the waiver if the company discovers an error in the information provided to DOE as part of its petition, determines that the waiver is no longer needed, or for other appropriate reasons. 10 CFR 431.401(k)(2). Further, the waiver is conditioned upon the validity of the door motor performance characteristics, statements, representations, and documentary materials provided by HH Technologies.

III. Order

After careful consideration of all the material that was submitted by HH Technologies in this matter and the comment received, it is ORDERED that:

(1) HH Technologies must, as of the date of publication of this Order in the Federal Register, test and rate the following walk-in door basic models with the alternate test procedure as set forth in paragraph (2):

Brand name | Basic model
RollSeal Automated Door System | RS-500 D5036x075
RollSeal Automated Door System | RS-500 D5036x090
RollSeal Automated Door System | RS-500 D5042x072
RollSeal Automated Door System | RS-500 D5042X084
RollSeal Automated Door System | RS-500 D5048x060
RollSeal Automated Door System | RS-500 D5048x072
RollSeal Automated Door System | RS-500 D5048x084
RollSeal Automated Door System | RS-500 D5048X090
RollSeal Automated Door System | RS-500 D5054x084
RollSeal Automated Door System | RS-500 D5054x096
RollSeal Automated Door System | RS-500 D5057x102
RollSeal Automated Door System | RS-500 D5060x084
RollSeal Automated Door System | RS-500 D5060x090
RollSeal Automated Door System | RS-500 D5060X096
RollSeal Automated Door System | RS-500 D5060X108
RollSeal Automated Door System | RS-500 D5066x084
RollSeal Automated Door System | RS-500 D5066x108
RollSeal Automated Door System | RS-500 D5071x090
RollSeal Automated Door System | RS-500 D5072x084
RollSeal Automated Door System | RS-500 D5072x090
RollSeal Automated Door System | RS-500 D5072x096
RollSeal Automated Door System | RS-500 D5072x102
RollSeal Automated Door System | RS-500 D5072x105
RollSeal Automated Door System | RS-500 D5072X108
RollSeal Automated Door System | RS-500 D5072x114
RollSeal Automated Door System | RS-500 D5072X120
RollSeal Automated Door System | RS-500 D5072x126
RollSeal Automated Door System | RS-500 D5072x138
RollSeal Automated Door System | RS-500 D5073x092
RollSeal Automated Door System | RS-500 D5078x094
RollSeal Automated Door System | RS-500 D5078x102
RollSeal Automated Door System | RS-500 D5078X108
RollSeal Automated Door System | RS-500 D5084x084
RollSeal Automated Door System | RS-500 D5084x096
RollSeal Automated Door System | RS-500 D5084x102
RollSeal Automated Door System | RS-500 D5084x108
RollSeal Automated Door System | RS-500 D5084x114
RollSeal Automated Door System | RS-500 D5084x120
RollSeal Automated Door System | RS-500 D5084x126
RollSeal Automated Door System | RS-500 D5090x096
RollSeal Automated Door System | RS-500 D5090x114
RollSeal Automated Door System | RS-500 D5090x120
RollSeal Automated Door System | RS-500 D5096x090
RollSeal Automated Door System | RS-500 D5096x096
RollSeal Automated Door System | RS-500 D5096x102
RollSeal Automated Door System | RS-500 D5096x114
RollSeal Automated Door System | RS-500 D5096x126
RollSeal Automated Door System | RS-500 D5102x096
RollSeal Automated Door System | RS-500 D5102X108
RollSeal Automated Door System | RS-500 D5102x114
RollSeal Automated Door System | RS-500 D5102x120
RollSeal Automated Door System | RS-500 D5102x126
RollSeal Automated Door System | RS-500 D5108x102
RollSeal Automated Door System | RS-500 D5108X108
RollSeal Automated Door System | RS-500 D5118X084
RollSeal Automated Door System | RS-500 D5118x090
RollSeal Automated Door System | RS-500 D5118X096
RollSeal Automated Door System | RS-500 D5118x118
RollSeal Automated Door System | RS-500 D5120x090
RollSeal Automated Door System | RS-500 D5120x102
RollSeal Automated Door System | RS-500 D5120X108
RollSeal Automated Door System | RS-500 D5120x114
RollSeal Automated Door System | RS-500 D5120x120
RollSeal Automated Door System | RS-500 D5120x126
RollSeal Automated Door System | RS-500 D5120x138
RollSeal Automated Door System | RS-500 D5120x144
RollSeal Automated Door System | RS-500 D5123x102
RollSeal Automated Door System | RS-500 D5138x114
RollSeal Automated Door System | RS-500 D5144x144
RollSeal Automated Door System | RS-500 D5096x120
RollSeal Automated Door System | RS-600 D6048x084
RollSeal Automated Door System | RS-600 D6048x090
RollSeal Automated Door System | RS-600 D6060x096
RollSeal Automated Door System | RS-600 D6060x120
RollSeal Automated Door System | RS-600 D6072x084
RollSeal Automated Door System | RS-600 D6072x090
RollSeal Automated Door System | RS-600 D6072x096
RollSeal Automated Door System | RS-600 D6072x102
RollSeal Automated Door System | RS-600 D6072x108
RollSeal Automated Door System | RS-600 D6078x126
RollSeal Automated Door System | RS-600 D6078x138
RollSeal Automated Door System | RS-600 D6084x102
RollSeal Automated Door System | RS-600 D6084x108
RollSeal Automated Door System | RS-600 D6090x126
RollSeal Automated Door System | RS-600 D6096x090
RollSeal Automated Door System | RS-600 D6096x096
RollSeal Automated Door System | RS-600 D6096x102
RollSeal Automated Door System | RS-600 D6096x108
RollSeal Automated Door System | RS-600 D6096x114
RollSeal Automated Door System | RS-600 D6096x120
RollSeal Automated Door System | RS-600 D6096x126
RollSeal Automated Door System | RS-600 D6108x108
RollSeal Automated Door System | RS-600 D6120x120
RollSeal Automated Door System | RS-600 D6144x108
RollSeal Automated Door System | RS-600 D6144x144

(2) The alternate test procedure for the HH Technologies basic models referenced in paragraph (1) of this Order is the test procedure for walk-in doors prescribed by DOE at 10 CFR part 431, subpart R, appendix A, except that the percent time off (“PTO”) value specified in section 4.5.2 “Direct Energy Consumption of Electrical Components of Non-Display Doors” shall be 96% for door motors. All other requirements of 10 CFR part 431, subpart R, appendix A and DOE's regulations remain applicable.

(3) Representations. HH Technologies may not make representations about the energy use of the basic models identified in paragraph (1) of this Order for compliance, marketing, or other purposes unless the basic model has been tested in accordance with the provisions set forth above and such representations fairly disclose the results of such testing in accordance with 10 CFR part 431, subpart R, appendix A and 10 CFR part 429, subpart B, as specified in this Order.

(4) This waiver shall remain in effect according to the provisions of 10 CFR 431.401.

(5) This waiver is issued on the condition that the statements, representations, and documents provided by HH Technologies are valid. If HH Technologies makes any modifications to the controls or configurations of these basic models, the waiver will no longer be valid and HH Technologies will either be required to use the current Federal test method or submit a new application for a test procedure waiver. DOE may revoke or modify this waiver at any time if it determines the factual basis underlying the petition for waiver is incorrect, or the results from the alternate test procedure are unrepresentative of the basic models' true energy consumption characteristics. 10 CFR 431.401(k)(1). Likewise, HH Technologies may request that DOE rescind or modify the waiver if HH Technologies discovers an error in the information provided to DOE as part of its petition, determines that the waiver is no longer needed, or for other appropriate reasons. 10 CFR 431.401(k)(2).

(6) Granting of this waiver does not release HH Technologies from the certification requirements set forth at 10 CFR part 429.

Signed in Washington, DC, on October 15, 2018.

Kathleen B. Hogan, Ph.D.

Deputy Assistant Secretary for Energy Efficiency, Energy Efficiency and Renewable Energy

[FR Doc. 2018-23097 Filed 10-22-18; 8:45 am]

BILLING CODE 6450-01-P